DEPARTMENT OF ENERGY

Federal Energy Regulatory Commission

[Project No. 503-048]

Idaho Power Company, Idaho; Notice of Availability of Final Environmental Impact Statement for the Swan Falls Project

August 26, 2010.

In accordance with the National Environmental Policy Act of 1969 and the Federal Energy Regulatory Commission's (Commission or FERC's) regulations, 18 Code of Federal Regulations (CFR) Part 380 (Order No. 486, 52 Federal Register 47897), the Office of Energy Projects has reviewed Idaho Power Company's application for license for the Swan Falls Project (FERC Project No. 503-048), located on the Snake River in Ada and Owyhee counties, Idaho, about 35 miles southwest of Boise. The project currently occupies 529 acres of federal lands administered by the Bureau of Land Management; however, Idaho Power proposes a reduction in the project boundary to include only 181 acres of federal lands. Commission staff has prepared a final Environmental Impact Statement (EIS) for the project.

The final EIS contains staff's evaluation of the applicant's proposal and alternatives for relicensing the Swan Falls Project. The final EIS documents the views of governmental agencies, non-governmental organizations, affected Indian tribes, the public, the license applicant, and Commission staff.

A copy of the final EIS is available for review at the Commission in the Public Reference Branch, Room 2a, located at 888 First Street, NE., Washington, DC 20426. The final EIS also may be viewed on the Commission's Web site at http://www.ferc.gov using the “eLibrary” link. Enter the docket number excluding the last three digits in the docket number field to access the document. For assistance, contact FERC Online Support at FERCOnlineSupport@ferc.gov or toll-free at 1-866-208-3676, or for TTY, 202-502-8659.

You may also register online at http://www.ferc.gov/docs-filing/esubscription.asp to be notified via e-mail of new filings and issuances related to this or other pending projects. For assistance, contact FERC Online Support. For further information, contact Dianne Rodman by telephone at 202-502-6077 or by e-mail at Dianne.Rodman@ferc.gov.

Kimberly D. Bose,
Secretary.

[FR Doc. 2010-21963 Filed 9-1-10; 8:45 am]

BILLING CODE 6717-01-P